DEPARTMENT OF ENERGY

Federal Energy Regulatory Commission

Notice of Teleconference Santa Felicia Hydroelectric Project (Project No.2153-012)

May 26, 2005.

a. Date and Time of Meeting: June 9, 2005, 12 noon to 2 p.m. (P.d.t.).

b. Place: All interested parties are invited to participate in a teleconference from their location.

c. FERC Contact: Kenneth Hogan, (202) 502-8434: Kenneth.Hogan@ferc.gov.

d. Applicant Contact: Mr. John Dickenson, (805) 525-4431.

e. Purpose of the Meeting: The Federal Energy Regulatory Commission seeks clarification of the additional information response filed on April 29, 2005, by the United Water Conservation District. This information was filed as response to the Commission's request dated April 1, 2005.

f. All local, State, and Federal agencies, and interested parties, are hereby invited to listen in on the teleconference. The phone number and passcode to the teleconference will be provided upon a request made by interested parties. Please contact Kenneth Hogan via e-mail at: kenneth.hogan@ferc.gov no later than close of business June 7, 2005.

Magalie R. Salas,
Secretary.

[FR Doc. E5-2857 Filed 6-2-05; 8:45 am]

BILLING CODE 6717-01-P